SMALL BUSINESS ADMINISTRATION

[Declaration of Disaster #3467]

State of Ohio

As a result of the President's major disaster declaration on November 18, 2002, I find that Hancock, Ottawa, Paulding, Putnam, Seneca and Van Wert Counties in the State of Ohio constitute a disaster area due to damages caused by severe storms and tornadoes occurring on November 10, 2002. Applications for loans for physical damage as a result of this disaster may be filed until the close of business on January 17, 2003 and for economic injury until the close of business on August 18, 2003 at the address listed below or other locally announced locations: U.S. Small Business Administration, Disaster Area 2 Office, One Baltimore Place, Suite 300, Atlanta, GA 30308.

In addition, applications for economic injury loans from small businesses located in the following contiguous counties may be filed until the specified date at the above location: Allen, Auglaize, Crawford, Defiance, Hardin, Henry, Huron, Lucas, Mercer, Sandusky, Wood and Wyandot in the State of Ohio; and Adams and Allen counties in the State of Indiana.

The interest rates are:

| Percent
For Physical Damage:
Homeowners With Credit Available Elsewhere | 5.875
Homeowners Without Credit Available Elsewhere | 2.937
Businesses With Credit Available Elsewhere | 6.648
Businesses and Non-profit Organizations Without Credit Available Elsewhere | 3.324
Others (Including Non-profit Organizations) With Credit Available Elsewhere | 5.500
For Economic Injury: Businesses and Small Agricultural Cooperatives Without Credit Available Elsewhere | 3.324

The number assigned to this disaster for physical damage is 346712. For economic injury the number is 9S6300 for Ohio; and 9S6400 for Indiana.

(Catalog of Federal Domestic Assistance Program Nos. 59002 and 59008).
Dated: November 19, 2002.
Herbert L. Mitchell,
Associate Administrator for Disaster Assistance.

[FR Doc. 02-29913 Filed 11-22-02; 8:45 am]

BILLING CODE 8025-01-P